DEPARTMENT OF AGRICULTURE

Forest Service

Directive Publication Notice

AGENCY: Forest Service, Agriculture (USDA).

ACTION: Notice.

SUMMARY: The Forest Service (Forest Service or Agency), U.S. Department of Agriculture, provides direction to employees through issuances in its Directive System, comprised of the Forest Service Manual and Forest Service Handbooks. The Agency must provide public notice of and opportunity to comment on any directives that formulate standards, criteria, or guidelines applicable to Forest Service programs. Once per quarter, the Agency provides advance notice of proposed and interim directives that will be made available for public comment during the next three months; proposed and interim directives that were previously published for public comment but not yet finalized and issued; and notice of final directives issued in the last three months.

DATES: This notice identifies proposed and interim directives that will be published for public comment between April 1, 2024, and June 30, 2024; proposed and interim directives that were previously published for public comment but not yet finalized and issued; and final directives that have been issued since January 1, 2024.

ADDRESSES: Questions or comments may be submitted by email to the contact listed below.

FOR FURTHER INFORMATION CONTACT: JoLynn Anderson, 971-313-1718 or jolynn.anderson@usda.gov. Individuals who use telecommunications devices for the hearing impaired may call 711 to reach the Telecommunications Relay Service, 24 hours a day, every day of the year, including holidays. You may register to receive email alerts regarding Forest Service directives at https://www.fs.usda.gov/about-agency/regulations-policies.

SUPPLEMENTARY INFORMATION:

Proposed and Interim Directives

Consistent with 16 U.S.C. 1612(a) and 36 CFR part 216, the Forest Service publishes for public comment Agency directives that formulate standards, criteria, and guidelines applicable to Forest Service programs. Agency procedures for providing public notice and opportunity to comment are specified in Forest Service Handbook (FSH) 1109.12, Chapter 30, Providing Public Notice and Opportunity to Comment on Directives.

There are no public comment directives scheduled for publication from April 1, 2024, to June 30, 2024.

The following proposed directives have been published for public comment but have not yet been finalized:

1. FSM 2200, Rangeland Management, Chapters Zero Code; 2210, Rangeland Management Planning; 2220, Management of Rangelands (Reserved); 2230, Grazing Permit System; 2240, Rangeland Improvements; 2250, Rangeland Management Cooperation; and 2270, Information Management and Reports; FSH 2209.13, Grazing Permit Administration Handbook, Chapters 10, Term Grazing Permits; 20, Grazing Agreements; 40, Livestock Use Permits; 50, other Permits; and 90, Rangeland Management Decision-Making; and FSH 2209.16, Allotment Management Handbook, Chapter 10, Allotment Management and Administration.

2. FSM 3800, Landscape Scale Restoration Program.

3. FSH 2409.12, Timber Cruising Handbook, Chapters 30, Cruising Systems; 40, Cruise Planning, Data Recording, and Cruise Reporting; 60, Quality Control; and 70, Designating Timber for Cutting; FSH 2409.15, Timber Sale Administration Handbook, Chapters 20, Measuring and Accounting for Included Timber; 40, Rates and Payments; and 60, Operations and Other Provisions.

4. FSM 2000, National Forest Resource Management, Chapter 40, National Forest System Monitoring.

5. FSM 2300, Recreation, Wilderness, and Related Resource Management, Chapter 50, section 55, Climbing Management.

Final Directives That Have Been Issued Since January 1, 2024

Final FSH 5509.11, Title Claims, Sales, and Grants Handbook, Chapter 10, Title Claims and Encroachments, has been issued since January 1, 2024.

Title Claims and Encroachments, last updated August 3, 1992, has been updated in the final version. The contents of the 1992 handbook have been reorganized to be in parallel with the case processing activities in the Title Claims and Encroachment Management System Database. The revised handbook will provide a full understanding to land staffs regarding authorities used for title claim and encroachment cases. Nationwide understanding of steps for processing and resolving trespass and encroachment cases is needed to process these cases in a timely manner. Clear examples and exhibits of deeds, correspondence letters, and reports will help maintain consistency throughout the Forest Service.

The 30-day comment period for the proposed directive began June 16, 2023, and closed on July 15, 2023. The response to comments can be viewed at https://cara.fs2c.usda.gov/Public/ReadingRoom?project=ORMS-3650. Final chapter 10 was issued February 6, 2024, and can be viewed at https://www.fs.usda.gov/im/directives/fsh/5509.11/wo_5509.11_10-Amend%202024-1,%20Title%20Claims%20and%20Encroachments.docx.

JoLynn Anderson,
Branch Lead, Directives, Information Collections and Government Clearance, Policy Office, National Forest System.

[FR Doc. 2024-12612 Filed 6-7-24; 8:45 am]

BILLING CODE 3411-15-P